DEPARTMENT OF COMMERCE

National Oceanic and Atmospheric Administration

50 CFR Part 665

[Docket No. 180202114-8513-02]

RIN 0648-BH60

Pacific Island Fisheries; 5-Year Extension of Moratorium on Harvest of Gold Corals

AGENCY: National Marine Fisheries Service (NMFS), National Oceanic and Atmospheric Administration (NOAA), Commerce.

ACTION: Final rule.

SUMMARY: This final rule extends the region-wide moratorium on the harvest of gold corals in the U.S. Pacific Islands through June 30, 2023. NMFS intends this final rule to prevent overfishing and to stimulate research on gold corals.

DATES: This rule is effective July 16, 2018.

ADDRESSES: Background information on Pacific Island precious coral fisheries is found in the fishery ecosystem plans available from the Western Pacific Fishery Management Council (Council), 1164 Bishop St., Suite 1400, Honolulu, HI 96813, tel (808) 522-8220, fax (808) 522-8226, or www.wpcouncil.org.

FOR FURTHER INFORMATION CONTACT: Kate Taylor, NMFS PIR Sustainable Fisheries, (808)725-5182.

SUPPLEMENTARY INFORMATION: Precious corals (also called deep-sea corals) include black, pink, red, bamboo, and gold corals, and are harvested for use in high quality jewelry. NMFS and the Council manage the fishery for precious corals in the U.S. Pacific Islands under fishery ecosystem plans (FEP) for American Samoa, Hawaii, the Mariana Archipelago (Guam and the Northern Mariana Islands), and the Pacific Remote Islands Area. The U.S. fishery for gold corals in the Pacific Islands has been dormant since 2001.

In 2008, the Council recommended, and NMFS implemented, a five-year moratorium on the harvest of gold corals in the Pacific Islands Region (73 FR 47098, August 13, 2008). The measure was a precautionary response to research that suggested that gold coral growth rates and recruitment were much lower than previously known.

The Council considered additional research in 2012 that included refined gold coral growth rates and the identification of previously unknown habitat requirements. Based on that information, in 2013 the Council recommended that NMFS extend the moratorium for five years, which the agency did in May 2013 (78 FR 32181, May 29, 2013).

The current moratorium is scheduled to expire on June 30, 2018, but the Council continues to be concerned about uncertainties related to slow gold coral growth rates, taxonomy, and complex habitat requirements. Extending the moratorium another five years will provide additional time for further research and for the Council to develop sustainable management measures for gold corals. Based on the Council's concerns, NMFS is extending the moratorium on harvesting gold corals for five years, through June 30, 2023.

Additional background information on this action is in the preamble to the proposed rule (83 FR 18260, April 26, 2018).

Comments and Responses

On April 26, 2018, NMFS published a proposed rule and request for public comments (83 FR 18260). The comment period ended May 11, 2018. NMFS received input from four commenters, all generally in support of the rule. We respond below to specific comments.

Comment 1: Additional research on gold coral growth rates would help develop sustainable catch levels in the future.

Response: NMFS agrees research is needed on the biology of gold corals to quantify the impacts of possible future harvesting on these coral species. Extending the moratorium may stimulate this needed research.

Comment 2: NMFS should reduce harvest effort gradually until the long-term optimal level is achieved and gold corals are allowed to recover.

Response: Prior to the implementation of the first moratorium in 2008, the gold coral fishery was regulated by an annual harvest quota of 240 kg. This quota was divided between two coral beds located in the main Hawaiian Islands (20 kg each), and two coral beds located in the Northwestern Hawaiian Islands (33.5 and 66.5 kg). The Council considered a range of new management alternatives in 2008, including a moratorium and 50 percent reduction in quota at each coral bed. NMFS analyzed the effect of a 50 percent reduction in quota and found that the potential risk of overfishing gold corals would be reduced, but not eliminated. If gold coral growth rates are as low as indicated, reducing the current quota by 50 percent may result in unsustainable harvest. Furthermore, given the high operating costs and associated safety risks, harvest at low levels may not be economically viable.

Comment 3: NMFS should conduct an economic analysis on the effects of the moratorium.

Response: NMFS assessed the costs and benefits of the proposed action and other alternatives pursuant to Executive Order 12866. Gold coral harvesting has occurred infrequently during the past 50 years, with only 2 entities ever harvesting gold corals commercially in the region. The fishery was dormant for the seven years prior to the implementation of the moratorium in 2008. If the moratorium expires, consumers and fishermen might gain in the short term in being able to trade in gold corals. However, if such harvests are unsustainable, consumers and fishermen may face negative impacts from potential fishery closures in the long term.

Comment 4: NMFS should extend the moratorium for ten years.

Response: The five-year moratorium provides time for researchers to conduct gold coral research and share their results with managers. This time period provides the impetus for the research to be conducted so that the fishery can be re-opened as soon as possible, if the research indicates that the fishery could be sustainable. After five years, the Council would review the best available scientific information and recommend appropriate management actions.

Comment 5: Why do gold corals need conservation relative to other precious corals?

Response: While all precious corals grow slowly and have low rates of mortality and recruitment, gold corals grow more slowly and live longer than other precious corals in the region. For example, whereas pink and black coral colonies may be less than 100 years old, gold coral colonies may be several hundred to several thousand years old. Slower growth rates and longer lives make gold corals more vulnerable to overfishing than other precious corals. Thus, gold corals require different conservation and management measures than other precious corals.

Changes From the Proposed Rule

This final rule contains no changes from the proposed rule.

Classification

The Administrator, Pacific Islands Region, NMFS, determined that this action is necessary for the conservation and management of the gold coral fishery and that it is consistent with the Magnuson-Stevens Fishery Conservation and Management Act and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. As a result, a regulatory flexibility analysis was not required and none was prepared.

List of Subjects in 50 CFR Part 665

Administrative practice and procedure, American Samoa, Deep sea coral, Fisheries, Fishing, Guam, Hawaii, Northern Mariana Islands, Pacific Remote Island Areas, Precious coral.

Dated: June 11, 2018.
Donna S. Wieting,
Acting Deputy Assistant Administrator for Regulatory Programs, National Marine Fisheries Service.

For the reasons set out in the preamble, NMFS amends 50 CFR part 665 as follows:

PART 665—FISHERIES IN THE WESTERN PACIFIC

1. The authority citation for part 665 continues to read as follows:

Authority: 16 U.S.C. 1801 et seq.

2. Revise § 665.169 to read as follows:

§ 665.169 Gold coral harvest moratorium.

Fishing for, taking, or retaining any gold coral in any precious coral permit area is prohibited through June 30, 2023.

3. In § 665.269, revise note 2 to the table in paragraph (d) to read as follows:

§ 665.269 Quotas.

* * * * *

(d) * * *

Notes:

* * * * *

2. A moratorium on gold coral harvesting is in effect through June 30, 2023.

4. Revise § 665.270 to read as follows:

§ 665.270 Gold coral harvest moratorium.

Fishing for, taking, or retaining any gold coral in any precious coral permit area is prohibited through June 30, 2023.

5. Revise § 665.469 to read as follows:

§ 665.469 Gold coral harvest moratorium.

Fishing for, taking, or retaining any gold coral in any precious coral permit area is prohibited through June 30, 2023.

6. Revise § 665.669 to read as follows:

§ 665.669 Gold coral harvest moratorium.

Fishing for, taking, or retaining any gold coral in any precious coral permit area is prohibited through June 30, 2023.

[FR Doc. 2018-12817 Filed 6-13-18; 8:45 am]

BILLING CODE 3510-22-P